NUCLEAR REGULATORY COMMISSION

[Docket Nos. 50-247-LR and 50-286-LR; ASLBP No. 07-858-03-LR-BD01]

Establishment of Atomic Safety and Licensing Board

Pursuant to delegation by the Commission dated December 29,1972, published in the Federal Register, 37 FR 28,710 (1972), and the Commission's regulations, see 10 CFR 2.104, 2.300, 2.303, 2.309, 2.311, 2.318, and 2.321, notice is hereby given that an Atomic Safety and Licensing Board is being established to preside over the following proceeding:

Entergy Nuclear Operations, Inc. (Indian Point Nuclear Generating Units 2 and 3)

A Licensing Board is being established pursuant to an August 1, 2007 Notice of Opportunity for Hearing (72 Fed. Reg. 42,134) regarding the April 23, 2007 application for renewal of Operating License Nos. DPR-26 and DPR-64, which authorize Entergy Nuclear Operations, Inc. (Entergy) to operate the Indian Point Nuclear Generating Units 2 and 3, respectively, at 3216 megawatts thermal for each unit. Entergy's renewal application seeks to extend the current operating licenses—which expire on September 9, 2013 (Unit 2) and December 12, 2015 (Unit 3)—for an additional twenty years. This proceeding concerns requests for hearing filed by The New York Affordable Reliable Electricity Alliance, the New York City Economic Development Corporation, and Friends of Sustainable Energy, USA, Inc. The Board is comprised of the following administrative judges:

Lawrence G. McDade, Chair, Atomic Safety and Licensing Board Panel, U.S. Nuclear Regulatory Commission, Washington, DC 20555-0001.

Dr. Richard E. Wardwell, Atomic Safety and Licensing Board Panel, U.S. Nuclear Regulatory Commission, Washington, DC 20555-0001.

Dr. Kaye D. Lathrop, Atomic Safety and Licensing Board Panel, U.S. Nuclear Regulatory Commission, Washington, DC 20555-0001.

All correspondence, documents, and other materials shall be filed with the administrative judges in accordance with 10 CFR 2.302.

Issued at Rockville, Maryland, this 18th day of October 2007.
E. Roy Hawkens,
Chief Administrative Judge, Atomic Safety and Licensing Board Panel.

[FR Doc. E7-20952 Filed 10-23-07; 8:45 am]

BILLING CODE 7590-01-P